LEGAL SERVICES CORPORATION

Notice of Intent To Award—Grant Awards for the Provision of Civil Legal Services to Eligible Low-Income Clients Beginning January 1, 2019; Correction

AGENCY: Legal Services Corporation.

ACTION: Notice; correction.

SUMMARY: The Legal Services Corporation (LSC) published a notice in the Federal Register on October 26, 2018 (83 FR 54148) announcing the estimated amounts of Basic Field Grants for 2019. The document incorrectly stated the basis for the estimates as the amounts awarded for Basic Field Grants in 2018.

FOR FURTHER INFORMATION CONTACT: Reginald Haley, Office of Program Performance, at (202) 295-1545, or haleyr@lsc.gov.

SUPPLEMENTARY INFORMATION:

Correction

In the Federal Register of October 26, 2018, in FR Doc. 2018-23406, on page 54148, in the third column, revise the sentence reading “The amounts below are estimates based on the 2018 grant awards to each service area” to read “The amounts below are estimates based on the triennial census adjustment for Basic Field Grant allocations.”

Dated: October 29, 2018.
Stefanie Davis,
Assistant General Counsel.

[FR Doc. 2018-24010 Filed 11-1-18; 8:45 am]

BILLING CODE 7050-01-P